ENVIRONMENTAL PROTECTION AGENCY

[FRL-6967-6]

Technical Experts Meeting to Discuss Issues Associated with Regulations of Cooling Water Intake Structures at Existing Facilities, Announcement of Meeting

AGENCY: Environmental Protection Agency (EPA).

ACTION: Notice; announcement of meeting.

SUMMARY: The EPA will conduct a public meeting of invited technical experts to discuss specific issues associated with the development of regulations under section 316(b) of the Clean Water Act governing cooling water intake structures at existing facilities. The purpose of this meeting is to elicit individual comments from the technical experts regarding the Agency's preliminary data on cooling water intake structure technologies that are in place at existing facilities and the costs associated with the use of available technologies for reducing impingement and entrainment of aquatic organisms. The experts will be selected by the Director of the Office of Science and Technology within the Office of Water. The experts will represent, at a minimum, a balanced mix of individuals recommended by or associated with industry and public interest groups, with additional representation from two or three States and one academic institution. The public is invited to attend and will have an opportunity to express their views at the end of the meeting.

DATES: The public meeting will be held on Wednesday, May 23, 2001 from 9 a.m. to 4:30 p.m.

ADDRESSES: The meeting will be held at the Crystal City Marriott, 1999 Jefferson Davis Highway, Alexandria, Virginia 22202. The Crystal City Marriott telephone number is (703) 413-5500. The nearest Metro stop is Crystal City station on either the Blue or the Yellow Line.

FOR FURTHER INFORMATION CONTACT: Claudio H. Ternieden, Office of Water, Office of Science and Technology, Engineering and Analysis Division, Cooling Water Intake Task Force, U.S. Environmental Protection Agency, 1200 Pennsylvania Avenue, N.W., Washington, DC 20460; telephone number (202) 260-6026; and e-mail address Ternieden.Claudio@epa.gov. For any updates on the issues that EPA will discuss at the meeting, refer to http://www.epa.gov/ost/guide.

SUPPLEMENTARY INFORMATION: EPA is developing regulations implementing Section 316(b) of the Clean Water Act under the terms of an Amended Consent Decree in Riverkeeper, Inc. v. Whitman, U.S. District Court, Southern District of New York, No. 93-Civ.0314 (AGS). The Amended Consent Decree divides the regulatory process into three phases: (1) Phase I, governing new facilities that employ a cooling water intake structure; (2) Phase II, governing, at a minimum, existing utilities and non-utility power producers that employ a cooling water intake structure, and whose flow levels exceed a minimum threshold to be determined by EPA; and (3) Phase III, governing existing facilities that employ a cooling water intake structure, that are not covered by the Phase II rule, and whose intake flow levels exceed a minimum threshold to be determined by EPA. EPA proposed Phase I regulations on July 20, 2000, 65 FR 49060. The remaining deadlines for rulemaking in each phase are as follows:

Phase I: Final action by November 9, 2001

Phase II: Proposal by February 28, 2002

Final action by August 28, 2003

Phase III: Proposal by June 15, 2003

Final action by December 15, 2004

Dated: April 11, 2001.
Geoffrey H. Grubbs,
Director, Office of Science and Technology.

[FR Doc. 01-10121 Filed 4-23-01; 8:45 am]

BILLING CODE 6560-50-U